INTERNATIONAL TRADE COMMISSION

[Investigation No. 337-TA-1422; Investigation No. 337-TA-1424] (Consolidated)

Certain TOPCon Solar Cells, Modules, Panels, Components Thereof, and Products Containing Same; Notice of a Commission Determination Not To Review an Initial Determination Granting Complainants' Motion To Terminate Investigation as to Respondent Adani Green Energy Ltd. Based on Withdrawal of the Complaint and To Amend the Complaint To Add Respondent Mundra Solar PV Ltd.

AGENCY: U.S. International Trade Commission.

ACTION: Notice.

SUMMARY: Notice is hereby given that the U.S. International Trade Commission (“Commission”) has determined not to review an initial determination (“ID”) (Order No. 8) granting an unopposed motion to terminate the investigation as to respondent Adani Green Energy Ltd. based on withdrawal of the complaint, and to amend the complaint to add respondent Mundra Solar PV Ltd.

FOR FURTHER INFORMATION CONTACT: Benjamin S. Richards, Esq., Office of the General Counsel, U.S. International Trade Commission, 500 E Street SW, Washington, DC 20436, telephone (202) 708-5453. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal on (202) 205-1810.

SUPPLEMENTARY INFORMATION: The Commission instituted Investigation No. 337-TA-1422 on November 5, 2024, and Investigation No. 337-TA-1425 on December 9, 2024, based on complaints filed by Trina Solar (U.S.), Inc., Trina Solar US Manufacturing Module 1, LLC, and Trina Solar Co., Ltd. (collectively, “Trina”). 89 FR 87889 (Nov. 5, 2024); 89 FR 97653 (Dec. 9, 2024). The complaints, as supplemented, collectively allege violations of section 337 of the Tariff Act of 1930, as amended, 19 U.S.C. 1337, in the importation into the United States, the sale for importation, or the sale within the United States after importation of certain TOPCon solar cells, modules, panels, components thereof, and products containing the same by reason of infringement of claims 1-11 of the U.S. Patent No. 9,722,104 and claims 1-17 of U.S. Patent No. 10,230,009. The complaints further allege that a domestic industry exists. The Commission's notices of investigation collectively named as respondents Runergy USA Inc., of Pleasanton, CA; Runergy Alabama Inc., of Huntsville, AL; Jiangsu Runergy New Energy Technology, Co., Ltd., of Yangcheng City, China; Adani Solar USA Inc., of Irving, TX; Adani Green Energy Ltd., of Ahmedabad, India; CSI Solar Co., Ltd., of Suzhou, China; Canadian Solar Inc., of West Guelph, Ontario; Canadian Solar (USA) Inc., of Walnut Creek, CA; Canadian Solar Manufacturing (Thailand) Co., Ltd., of Bo Win, Thailand; Canadian Solar US Module Manufacturing Corporation, of Mesquite, TX; Recurrent Energy Development Holdings, LLC, of Austin, TX. The Office of Unfair Import Investigations (“OUII”) is participating in the investigations. Id.

On January 21, 2025, the Commission consolidated the 1422 investigation and the 1425 investigation. 337-TA-1422, Order No. 5 (Dec. 20, 2024) and 337-TA-1425, Order No. 4 (Dec. 20, 2024), unreviewed by Comm'n Notice (Jan. 21, 2025).

On December 27, 2024, Trina filed a motion (“Mot.”) to withdraw the complaint and terminate the investigation as to respondent Adani Green Energy Ltd. (“Adani”). Trina also moved for leave to amend the complaint to add respondent Mundra Solar PV Ltd. (“Mundra”). Trina certified that the respondents and OUII did not oppose the motion. Mot. at 1. OUII filed a response in support of the motion. EDIS Doc ID 840766.

On January 14, 2025, the ALJ issued the subject ID (Order No. 8) granting Trina's unopposed motion to terminate the investigation as to Adani and to add Mundra as a respondent. ID at 8. The ID found the motion to terminate complies with Commission Rule 210.21(a)(1). Id. At 3. The ID also found that Trina showed good cause to amend the complaint to add Mundra as a respondent based on new information obtained during discovery. Id. at 6. No petitions for review of the IDs were filed.

The Commission has determined not to review the subject ID. The investigation is terminated with respect to Adani Green Energy Ltd. Mundra Solar PV Ltd. is a respondent in this investigation.

The Commission vote for these determinations took place on January 31, 2025.

The authority for the Commission's determination is contained in section 337 of the Tariff Act of 1930, as amended (19 U.S.C. 1337), and in part 210 of the Commission's Rules of Practice and Procedure (19 CFR part 210).

By order of the Commission.
Issued: February 3, 2025.
Lisa Barton,
Secretary to the Commission.

[FR Doc. 2025-02302 Filed 2-5-25; 8:45 am]

BILLING CODE 7020-02-P